DEPARTMENT OF COMMERCE

Census Bureau

Agency Information Collection Activities; Submission to the Office of Management and Budget (OMB) for Review and Approval; Comment Request; Boundary and Annexation Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 6, 2024, during a 60-day comment period. This notice allows for an additional 30 days for public comments.

Agency: U.S. Census Bureau, Commerce.

Title: Boundary and Annexation Survey.

OMB Control Number: 0607-0151.

Form Number(s) BAS-6. This is the Consolidated BAS (CBAS) Agreement Form. BASSC-1. This is the Boundary and Annexation Survey (BAS) State Certification State Certifying Official (SCO) Appointment Form. BAS Feedback Form. This is the form used to capture feedback.

Type of Request: Regular submission, request for a revision of a currently approved collection.

Number of Respondents:

• BAS/State Certification/Boundary Quality Project: 40,000 governments.

• Feedback: 1,000 governments.

Average Hours per Response:

• BAS/State Certification/Boundary Quality Project: 7.5 hours. This estimate is based on an average of 5 hours for an eligible government with no changes and 10 hours for an eligible government with changes.

• Feedback: 30 minutes.

Burden Hours: 300,500 hours.

• BAS/State Certification/Boundary Quality Project: 300,000 hours.

• Feedback: 500 hours.

Needs and Uses: The Boundary and Annexation Survey (BAS) provides eligible governments, which include tribal, state, and general-purpose local governments, an opportunity to review the Census Bureau's legal boundary data to ensure the Census Bureau has the correct boundary, name, and status information and make necessary updates. BAS also allows for the review and update of census designated place (CDP) boundaries and linear features. It fulfills the agency's responsibility as part of the National Spatial Data Infrastructure, for which the OMB Circular A-16 designates the Census Bureau as the lead federal agency for maintaining national data about legal government boundaries, as well as statistical and administrative boundaries. It also supports the geospatial data steward responsibilities of the Geospatial Data Act, the Evidence Act, OMB E-Gov, the Federal Geographic Data Committee, Data.gov, GeoPlatform.gov, the National Map, the Geographic Names Information System, and the Geospatial One-Stop.

The Census Bureau uses the boundaries collected during BAS to tabulate data for various censuses and surveys including the decennial census and American Community Survey (ACS) as well as the Population Estimates Program (PEP). It also uses the boundaries collected through BAS to support other programs such as the Redistricting Data Program, the Economic Census, the Geographically Updated Population Certification Program, and the Special Census program.

Other federal programs also rely on accurate boundaries collected through BAS. The Department of Housing and Urban Development uses boundaries to determine jurisdictional eligibility for various grant programs, such as the Community Development Block Grant program. In addition, the Department of Agriculture uses boundaries to determine eligibility for various rural housing and economic development programs.

The following collection methods allow the Census Bureau to coordinate among various levels of government to obtain the most accurate legal boundary, CDP, linear feature, and contact information:

• BAS.

• State Certification.

• Boundary Quality Project.

BAS

BAS provides eligible governments, which include tribal, state, and general-purpose local governments, an opportunity to review the Census Bureau's legal boundary data to ensure the Census Bureau has the correct boundary, name, and status information and make necessary updates. BAS also allows for the review and update of CDPs and linear features.

The Census Bureau notifies eligible governments about BAS through email. The email includes program information and directs eligible governments to respond through an online form if they have legal boundary, CDP, linear feature, or contact updates to report. Any eligible government without an email on file with the Census Bureau will be contacted by phone and asked to provide their response.

Those indicating they have updates to provide must create their submission using one of the options listed below.

• BAS Partnership Toolbox. The BAS Partnership Toolbox allows eligible governments to create the submission in ArcGIS Pro. The toolbox automates data download, boundary update creation, and exports standardized files for submission.

• GUPS. The Geographic Update Partnership Software (GUPS) is a free, customized geographic information system software application provided by the Census Bureau. It is offered as standalone (GUPS Standalone) and online (GUPS Web) applications.

○ GUPS Standalone allows eligible governments to manually create boundary updates and export standardized files for submission.

○ GUPS Web allows eligible governments to manually create boundary updates or import local boundary data to automate the creation of boundary updates and export standardized files for submission.

• Paper maps. The Census Bureau will ship large format paper maps and instructions for eligible governments to annotate and return their updates to the Census Bureau. The paper map package includes a letter, materials list insert, large format paper maps covering the extent of the government, supplies to update the paper maps, how-to guide, and postage-paid return envelope.

Eligible governments that do have boundary updates can submit both legal boundary changes and boundary corrections. Legal boundary changes include updates that are a result of any legal action taken by the eligible government(s) to add or remove land to their official boundary. Boundary corrections are updates that are the result of spatial inaccuracies and do not substantially alter the Census Bureau's representation of the boundaries.

Updates created using the BAS Partnership Toolbox, GUPS Standalone, or GUPS Web are returned through the Census Bureau's secure online data sharing portal, while paper maps are returned through the mail.

Eligible governments that do not respond, or those that indicate they have updates to provide, but have not submitted their updates are contacted during nonresponse follow-up by email. The email reminds eligible governments to respond through an online response form or email if they have updates to report. Those that indicated they have updates to report are requested to submit those updates by the March 1 or May 31 deadlines. Refer to the schedule below for a high-level BAS program timeline.

• January 1—Legal boundary changes must be in effect on or before this date to be reported in the current survey year.

• January to May—The Census Bureau conducts BAS.

• Early January—The Census Bureau notifies eligible governments about BAS through email. Eligible governments are contacted through email to determine if they have legal boundary, CDP, linear feature, or contact updates to report. Any eligible government without an email on file with the Census Bureau will be contacted by phone and asked to provide their response.

• Mid-February, Mid-March, and Mid-April—The Census Bureau conducts nonresponse follow-up for BAS through email. Eligible governments that have not responded to annual response, along with those that indicated they have updates to report but have not yet submitted those updates, are contacted through email on up to three occasions.

• March 1—Legal boundary changes returned by this date will be reflected in the ACS and PEP data and in next year's BAS materials.

• May 31—Legal boundary changes returned by this date will be reflected in next year's BAS materials. If time permits, boundary corrections returned by this date may also be shown.

State Certification

The state certification program allows state agencies to verify that the legal boundary, name, and status information received through BAS were reported in accordance with state law. The Census Bureau annually requests that each state governor designate a state certifying official (SCO) to participate in the program. The SCO reviews listings of legal boundary changes, as well as government names and statuses that were submitted through the previous year's BAS. These listings include the attribute information for new incorporations, dissolutions, mergers, consolidations, and legal boundary changes. The listings also include the names and functional statuses of all general-purpose local governments within the state's jurisdiction. The SCO can request that the Census Bureau edit the attribute data, add missing records, or remove invalid records. Invalid records are only removed if the state government maintains an official record of all changes to legal boundaries and governments as mandated by state law. The state certification schedule is as follows:

• October—The Census Bureau emails governor's letters requesting the state appoint an SCO to participate in the program.

• December—The Census Bureau emails the information required to participate to the SCO.

• December to February—The SCO returns submission to the Census Bureau.

• March—The Census Bureau distributes discrepancy emails to general-purpose local governments based on feedback from the SCO.

The state certification materials include a governor's letter, an email to the SCO, how-to guide, legal boundary change and government name and status listings, and discrepancy email to local governments. The listings and how-to guide are available on the BAS website. The SCO returns all updates electronically through the Census Bureau's secure online data sharing portal.

Boundary Quality Project

The boundary quality project is designed to assess, analyze, and improve the spatial quality of legal, statistical, and administrative boundaries within the Master Address File/Topologically Integrated Geographic Encoding and Referencing (MAF/TIGER) System. Ensuring quality boundaries is a critical component of the geographic preparations for each decennial census and the Census Bureau's ongoing geographic partnership programs. In addition, the improvement of boundary quality is an essential element of the Census Bureau's commitment as the responsible agency for legal boundaries under OMB Circular A-16.

The project represents an effort to systematically target and assess boundary quality within the MAF/TIGER System. Historically, the Census Bureau relied exclusively on geographic partnership programs such as BAS and the Participant Statistical Areas Program (PSAP) to obtain updates to tribal, state, general-purpose local government, and CDP boundaries. While programs like BAS play an essential role in improving boundary quality, the goal of the boundary quality project is to establish a new, more accurate, baseline for legal boundaries and CDPs within an entire state or county. BAS builds on this baseline by collecting individual legal boundary changes and CDP updates on a transaction basis as they occur over the years.

For the Census Bureau to complete this project, we would collect spatial data from tribal, state, and general-purpose local governments to improve the quality of the MAF/TIGER System outside the realm of BAS. The only burden on governments for the boundary quality project is in providing their spatial data.

Feedback

The Census Bureau is adding a feedback component to its geographic partnership programs to allow for the solicitation of feedback to improve the administration of the respective program and potentially reduce the future burden. Eligible governments may be asked to provide their feedback on materials, method(s) of data collection, manner of communications, and the usability of the program applications and tools.

Affected Public: Tribal, state, and general-purpose local governments in all fifty states, the District of Columbia, the Commonwealth of Puerto Rico, American Samoa, Guam, the Commonwealth of the Northern Mariana Islands, and the U.S. Virgin Islands.

Frequency: Annual.

Respondent's Obligation: Voluntary.

Legal Authority: Title 13, U.S.C., Section 6.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0151.

Sheleen Dumas,
Departmental PRA Clearance Officer, Office of the Under Secretary for Economic Affairs, Commerce Department.

[FR Doc. 2024-22527 Filed 9-30-24; 8:45 am]

BILLING CODE 3510-07-P